NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by July 9, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant—

Peter Doran, Earth and Environmental Sciences (MC 186), University of Illinois at Chicago, Chicago, IL 60607.

Activity for Which Permit Is Requested

Take and Import Into the United States. Last season, as part of the McMurdo Dry Valley Long Term Ecological Research project, the applicant collected sediment cores from the lakes in the Taylor Valley to determine the paleoenvironment and legacy in the current ecosystem. Data from the lake water suggest that while most of the lakes have retained their ice covers for thousands of years, the East Lobe of Lake Bonney may have only formed a perennial ice cover in the 200 years. All the Taylor Valley lakes have dead seal and penguin remains on their ice surfaces. They remain on the surface because they are too big for the sun to melt them significantly into the ice. Therefore, establishing the time since these animals died will determine the minimum age of the lake ice covers. The applicant proposes to collect samples (1-5 gm) of bone or soft tissue from the most decayed penguin and seal carcasses on the lake surfaces. These samples will be returned to the United States for further study. It has been established that a carbon reservoir correction of ~ 1200 years should yield reasonable radiocarbon ages for these animals.

Location

Lake Bonney, Taylor Valley.

Dates

November 1, 2003 to December 31, 2003

Nadene G. Kennedy,
Permit Officer, Office of Polar Programs.

[FR Doc. 03-14422 Filed 6-6-03; 8:45 am]

BILLING CODE 7555-01-M